DEPARTMENT OF TRANSPORTATION

Federal Aviation Administration

14 CFR Part 39

[Docket No. 2001-CE-44-AD; Amendment 39-12822; AD 2002-14-22]

RIN 2120-AA64

Airworthiness Directives; Pilatus Aircraft Ltd. Models PC-12 and PC-12/45 Airplanes

Correction

In rule document 02-17602 beginning on page 46582 in the issue of Tuesday, July 16, 2002 make the following corrections:

§ 39.13 [Corrected]

1. On page 46583, in §39.13, in the table, under “Actions”, in paragraph (1), in the second line, “bold” should read “bolt”.

2. On the same page, in §39.13, in the same table, under “Actions”, in paragraph (3), in the third line, “bolt” should read “both”.

[FR Doc. C2-17602 Filed 7-23-02; 8:45 am]

BILLING CODE 1505-01-D